GENERAL SERVICES ADMINISTRATION

Notice of Public Meeting and Intent To Prepare a Master Plan and an Environmental Impact Statement

The General Services Administration (GSA) announces its intent to prepare a master plan and an Environmental Impact Statement (EIS) for the Suitland Federal Center, and to conduct a public meeting to discuss the project. The master plan will identify sites suitable for development and provide alternative development programs and building configurations, including new construction, building renovations, demolition, or combinations thereof. GSA will prepare the EIS pursuant to Section 102(2)(C) of the National Environmental Policy Act (NEPA) of 1969, as amended, as implemented by the Council on Environmental Quality (40 CFR Parts 14500-14508), Section 106 of the National Historic Preservation Act of 1966, as amended, and in accordance with the Environmental Policies and Procedures implemented by GSA.

GSA is preparing a master plan for the Suitland Federal Center that could accommodate current and future personnel. The master plan will identify developable parcels and provide alternative development scenarios, which may include new construction, renovation of existing facilities, demolition, parking facilities, and open space. The EIS will evaluate the effects of the master plan and resulting employment populations on land use and socio-economic, transportation, cultural, and natural resources.

A public meeting will be held to determine the significant issues related to implementation of the master plan and the long-term use of the Suitland Federal Center. The meeting will serve as part of the formal environmental review/scoping process for the preparation of the EIS. It is important that Federal, regional and local agencies, and interested individuals and groups take this opportunity to identify environmental concerns that should be addressed during preparation of the EIS. The public and review agencies are also encouraged to submit written comments on the potential impacts of the proposed master plan. Public comments received on the potential impacts of the proposed project will be considered for the environmental document. The public and review agencies are encouraged to provide additional comments once the Draft EIS is released.

The public meeting will be held:

Wednesday, October 25th, at 7:00 P.M.

At the Suitland High School Auditorium, 5200 Silver Hill Road, Forestville, Maryland

Adequate signs will be posted on the building to direct meeting participants. The meeting will begin with a brief, formal presentation of the project and the environmental impact assessment process. After the presentation, GSA representatives will be available to receive comments from the public regarding issues of concern and the scope of the EIS. In the interest of available time, each speaker will be asked to limit oral comments to five minutes.

An Informational Packet will be available for review at the public meeting or upon request to the General Services Administration contact identified below. Agencies and the general public are invited and encouraged to provide written comments on the scoping issues in addition to, or in lieu of, oral comments at the public meeting. To be most helpful, environmental review/scoping comments would clearly describe specific issues or topics that the community believes the EIS should address. All written comments regarding the proposed project must be postmarked no later than October 23rd to:

General Services Administration

Attn: Mr. Jag Bhargava

Project Executive, Portfolio Development Division, 7th and D Streets, S.W., Room 2110, Washington, DC 20407

For further information please contact: Mr. Jag Bhargava, General Services Administration (202-708-6944); E-mail: jag.bhargava@gsa.gov

Dated: September 25, 2000.
Approved By:
Arthur M. Turowski,
Deputy Assistant Regional Administrator, National Capital Region, GSA.

[FR Doc. 00-25183 Filed 10-3-00; 8:45 am]

BILLING CODE 6820-61-M